DEPARTMENT OF HEALTH AND HUMAN SERVICES

Centers for Medicare & Medicaid Services

Privacy Act of 1974; Deletion of System of Records

AGENCY: Department of Health and Human Services (HHS), Centers for Medicare & Medicaid Services (CMS).

ACTION: Notice to delete 10 systems of records.

SUMMARY: CMS proposes to delete 10 systems of records from its inventory subject to the Privacy Act of 1974 (Title 5 United States Code § 552a). CMS is reorganizing its databases because of the amount of information it collects to administer the Medicare program. Retention and destruction of the data contained in these systems will follow the schedules listed in the system notice.

EFFECTIVE DATES: CMS filed a report of proposed deletions with the Chair of the House Committee on Government Reform and Oversight, the Chair of the Senate Committee on Homeland Security & Governmental Affairs, and the Administrator, Office of Information and Regulatory Affairs, Office of Management and Budget (OMB) on 11/30/2006. To ensure that all parties have adequate time in which to comment, the deletions will become effective 30 days from the publication of the notice, or 40 days from the date it was submitted to OMB and Congress, whichever is later, unless CMS receives comments that require alterations to this notice.

ADDRESSES: The public should address comments to: CMS Privacy Officer, Division of Privacy Compliance, Enterprise Architecture and Strategy Group, Office of Information Services, CMS, Room N2-04-27, 7500 Security Boulevard, Baltimore, Maryland 21244-1850. Comments received will be available for review at this location, by appointment, during regular business hours, Monday through Friday from 9 a.m.-3 p.m., eastern time zone.

FOR FURTHER INFORMATION CONTACT: Jacqueline Code, Management Analysis, Division of Privacy Compliance, Enterprise Architecture and Strategy Group, Office of Information Services, CMS, Room N2-04-27, 7500 Security Boulevard, Baltimore, Maryland 21244-1850. She can also be reached by telephone at 410-786-0393, or via e-mail at Jacquie.code@cms.hhs.gov.

CMS is deleting the following systems of records.

System No. | Title | System Manager
09-70-0036 | Evaluation of the Competitive Bidding for Durable Medical Equipment Demo | HHS/CMS/ORDI
09-70-0053 | Medicare Beneficiary Health Status Registry | HHS/CMS/ORDI
09-70-0067 | End Stage Renal Disease Managed Care Demonstration | HHS/CMS/ORDI
09-70-0067 | Claims Payment System for Medicare's Healthy Aging Demo Project | HHS/CMS/ORDI
09-70-0540 | Data Collection of Medicare Beneficiaries Receiving Implantable Cardioverter-Defibulators for Primary Prevention of Sudden | HHS/CMS/OCSQ
09-70-0549 | Data Collection for Medicare Beneficiaries Receiving FDG Positron Tomography for Brain, Ovarian, Pancreatic, Small Cell Lung and Testicular Cancer | HHS/CMS/OCSQ
09-70-0554 | Anti-Cancer Chemotherapy for Colorectal Cancer (CRC) | HHS/CMS/OCSQ
09-70-0556 | Carotid Artery Stenting | HHS/CMS/OCSQ
09-70-0561 | Data Collection for Medicare Beneficiaries Receiving FDG Positron Tomography for Dementia | HHS/CMS/OCSQ
09-70-0570 | Medicare Bariatric Surgery System | HHS/CMS/OCSQ

Dated: November 28, 2006.
John R. Dyer,
Chief Operating Officer, Centers for Medicare & Medicaid Services.

[FR Doc. E6-20743 Filed 12-6-06; 8:45 am]

BILLING CODE 4120-03-P